DEPARTMENT OF COMMERCE

National Oceanic and Atmospheric Administration

RIN 0648-XF839

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ).

DATES: The meeting will be held on Tuesday, Wednesday, and Thursday, December 5, 6, and 7, 2017, beginning at 9 a.m. on December 5, 8:30 a.m. on December 6, and 8:30 a.m. on December 7.

ADDRESSES: The meeting will be held at the Hotel Viking, 1 Bellevue Avenue, Newport, RI 02840; telephone: (401) 847-3300; online at www.hotelviking.com.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, December 5, 2017

After introductions and brief announcements, the meeting will begin with reports from the Council Chairman and Executive Director, NMFS's Regional Administrator for the Greater Atlantic Regional Fisheries Office (GARFO), liaisons from the Northeast Fisheries Science Center (NEFSC) and Mid-Atlantic Fishery Management Council, representatives from NOAA General Counsel and the Office of Law Enforcement, and staff from the Atlantic States Marine Fisheries Commission (ASMFC) and U.S. Coast Guard. Next, the Council will receive a short briefing from the Northeast Regional Ocean Council on upgrades to the Northeast Ocean Data Portal. The Skate Committee will report next with a final item related to Framework Adjustment 5 to the Northeast Skate Complex Fishery Management Plan (FMP). The Council addressed most of the framework components during its September meeting. During this December meeting, the Council will: (1) Consider options to exempt vessels from skate regulations when fishing exclusively within the Northwest Atlantic Fisheries Organization (NAFO) Regulatory Area; and (2) take final action on the entire framework. Then, ASMFC will brief the Council on the Commission's Draft Addendum XXVI to the Interstate Fishery Management Plan for American Lobster and Addendum III to the Jonah Crab plan. The Council will discuss data collection needs for these fisheries. The Habitat Committee then will provide a short progress report on the Council's Coral Amendment and Clam Dredge Framework, which will be followed by a Bureau of Ocean Energy Management overview of proposed and ongoing offshore wind energy projects in the Northeast.

After the lunch break, GARFO will provide a presentation on the North Atlantic Right Whale Five-Year Review and the reinitiation of formal consultation due to new information on the changed status of right whales. Next, the Atlantic Herring Committee will report on Draft Amendment 8 to the Atlantic Herring FMP. The Council will select preferred alternatives for localized depletion and user conflicts for the amendment and then approve the document for public hearing. The Council debated acceptable biological catch (ABC) control rule alternatives—the other major component of Amendment 8—during its September meeting. The Council also will approve 2019-2021 research priorities for the Atlantic Herring Research Set-Aside Program. Following these actions, the Council will adjourn for the day.

Wednesday, December 6, 2017

The second day of the meeting will begin with a report from the Northeast Fisheries Science Center on the results of the 2017 operational assessments for 19 of the 20 groundfish stocks managed under the Council's Northeast Multispecies FMP. The Scientific and Statistical Committee (SSC) will report next with overfishing limits (OFLs) and ABCs for the following stocks and fishing years (FY): Atlantic sea scallops for FY 2018 with defaults for FY 2019; northern and southern silver hake and red hake for FY 2018-2020; and all groundfish stocks for 2018-2020 except Georges Bank yellowtail flounder and Atlantic halibut. The Council then will begin its Groundfish Committee report, during which it will take final action on Framework Adjustment 57 to the Northeast Multispecies FMP. The framework includes: (1) 2018-2020 fishery specifications and other management measures; (2) 2018 TACs for U.S./Canada stocks of Eastern Georges Bank cod, Eastern Georges Bank haddock, and Georges Bank yellowtail flounder; (3) Atlantic halibut accountability measures (AMs); (4) recreational management measures; (5) common pool trimester TAC adjustments; (6) southern windowpane flounder AMs; and (7) potential consideration of a Georges Bank cod sub-annual catch limit for the recreational fishery. Also under groundfish, the Council may consider requesting emergency action to reduce catches of Georges Bank cod by implementing additional measures for the recreational fishery.

Following a lunch break, members of the public will have the opportunity to speak during an open comment period on issues that relate to Council business but are not included on the published agenda for this meeting. The Council asks the public to limit remarks to 3-5 minutes. Then, the Groundfish Committee report will resume and continue until related business is concluded. The Council next will discuss its plan to provide input to NMFS on regulatory reform as mandated by Executive Orders 13777, 13771, and 13565. At the conclusion of this discussion, the Council will adjourn for the day.

Thursday, December 7, 2017

The third day of the meeting will begin with a discussion of and final action on 2018 Council priorities covering tasks and actions for all committees. Next, the Council will hear from its Scallop Committee and take final action on Framework Adjustment 29 to the Atlantic Sea Scallop FMP. This framework contains: (1) Fishery specifications for the 2018 fishing year and default specifications for 2019; (2) scallop fishery AMs for yellowtail flounder and windowpane flounder; (3) Northern Gulf of Maine Management Area modifications; and (4) measures to modify and/or create access area and open area boundaries consistent with potential changes to habitat and groundfish closed areas under the Council's Omnibus Essential Fish Habitat Amendment 2.

Following a lunch break, the Scallop Committee discussion will continue until business is concluded. The Whiting Committee will report next. The Council will take final action on 2018-2020 specifications for small-mesh multispecies, which include red, silver, and offshore hakes, and then will deliberate Amendment 22 to the Northeast Multispecies FMP, which was developed to consider limiting access to the small-mesh multispecies fishery. The Council will: (1) Consider whether to pursue or drop consideration of triggered possession limit adjustments in the amendment; and (2) approve the draft amendment for public hearing. Next, the Council will take up spiny dogfish to review the previously set 2018 specifications for the fishery and discuss whether to recommend modifications. Finally, the Council will close out the meeting with “other business.”

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Dated: November 14, 2017.
Tracey L. Thompson,
Acting Deputy Director, Office of Sustainable Fisheries, National Marine Fisheries Service.

[FR Doc. 2017-24961 Filed 11-16-17; 8:45 am]

BILLING CODE 3510-22-P